COMMODITY FUTURES TRADING COMMISSION

Agency Information Collection Activities Under OMB Review

Correction

In notice document 2025-17979, appearing on pages 44809-44810 in the issue of Wednesday, September 17, 2025, make the following correction:

On page 44809, in the second column, in the DATES section, “September 17, 2025” should read “October 17, 2025”.

[FR Doc. C1-2025-17979 Filed 9-26-25; 8:45 am]

BILLING CODE 0099-10-D